DEPARTMENT OF TRANSPORTATION

Federal Railroad Administration

[Docket Number FRA-2012-0011]

Petition for Waiver of Compliance

In accordance with part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief. The petition has been assigned Docket Number FRA-2012-0011.

Farmrail System Inc. (Farmrail), located in Clinton, OK, hereby petitions FRA for a waiver from 49 CFR 213.4(e)(3) to allow more than five cars required to be placarded by the Hazardous Materials Regulations (49 CFR part 172) to operate in a single-unit train consist. Farmrail proposes that FRA grant Farmrail a waiver of compliance that will permit more than five tank cars carrying any quantity of crude oil moving from the Anadarko Basin to operate over designated “excepted track” segments. The basin is located between Clinton and Sayre, OK. The 17-mile segment between Elk City and Sayre is the former Rock Island Railroad main track and currently designated as excepted track. Under this proposal, outbound loads would be metered in maximum blocks of 10 cars, while up to 20 inbound empties could be moved as they arrive (without unnecessary delay and loss of velocity); thereby relieving severe track congestion at Elk City. Farmrail claims the relief would not only improve the increasing volume of outbound traffic, but also eliminate bunching of inbound empties at the Elk City bottleneck between Class 2 and excepted track, where longer strings must now be split into five-car blocks for delivery to the different logistics customers.

Additionally, Farmrail states that a rail shipper in Sayre receives inbound loaded tank cars of methanol at a rate of approximately one or two cars per month. Methanol is a hazardous material. Under this proposal, a loaded car of methanol would displace one empty car of crude oil, and an empty tank car of methanol would displace one loaded car of crude oil. A train leaving Elk City for Sayre would be permitted to have up to 19 empty crude oil cars and one loaded methanol car. Similarly, a train leaving Sayre for Elk City could have 9 loaded crude oil cars and one empty methanol car.

Farmrail states that they have experienced no line-haul derailments between Elk City and Sayre on the 100-pound former mainline rail at 10 mph. Farmrail has installed new ties where there is curvature, so the safety risk for empty tank cars in this extremely rural environment is minimal. Public benefits from issuance of the requested regulatory waiver would include a potential 50-percent reduction in the number of train movements required to move available traffic and associated grade crossing accident exposure. Farmrail train crews have had emergency response and hazmat training, and their operating practices are randomly monitored by a field compliance supervisor. Farmrail proposes to conduct twice-weekly hi-rail inspections of the subject track segment until it can be reclassified.

Additionally, Farmrail states that they are the recipients of the Transportation Investment Generating Economic Recovery or TIGER III grant funds for the rehabilitation of 49 miles of rail line in western Oklahoma to sound Class 2 safety standards. The Clinton-to-Sayre segment is critical to the origination of rapidly growing volumes of crude oil produced from the Anadarko Basin oil and gas reserves. The $8.4 million-track project, sponsored by the Oklahoma Department of Transportation (ODOT), includes 20 percent in local matching funds and an indicated benefit-cost factor of 56.8, as posted by ODOT on its Web site www.odot.gov.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2012-0011) and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review the U.S. Department of Transportation's complete Privacy Act Statement in the Federal Register published on April 11, 2000 (65 FR 19477), or at http://www.dot.gov/privacy.html.

Dated: Issued in Washington, DC, on March 26, 2012.
Ron Hynes,
Acting Deputy Associate Administrator for Regulatory and Legislative Operations.

[FR Doc. 2012-7618 Filed 3-29-12; 8:45 am]

BILLING CODE 4910-06-P